DEPARTMENT OF THE INTERIOR

National Park Service

Cancellation of July 21, 2009, Meeting of the Big Cypress National Preserve Off-Road Vehicle (ORV) Advisory Committee

AGENCY: National Park Service, Interior.

ACTION: Cancellation of meeting.

SUMMARY: In accordance with the Federal Advisory Committee Act (Pub. L. 92-463, 86 Stat. 770, 5 U.S.C. App 1, 10), notice is hereby given that the July 21, 2009, meeting of the Big Cypress National Preserve ORV Advisory Committee previously announced in the Federal Register, Vol. 73, November 17, 2008, p. 67882, is cancelled.

FOR FURTHER INFORMATION CONTACT: Pedro Ramos, Superintendent, Big Cypress National Preserve, 33100 Tamiami Trail East, Ochopee, Florida 34141-1000; 239-695-1103.

SUPPLEMENTARY INFORMATION: The Committee was established (Federal Register, Vol. 72, August 1, 2007, pp. 42108-42109) pursuant to the Preserve's 2000 Recreational Off-Road Vehicle Management Plan and the Federal Advisory Committee Act of 1972 (5 U.S.C. Appendix) to examine issues and make recommendations regarding the management of off-road vehicles (ORVs) in the Preserve. The agendas for these meetings are published by press release and on the http://parkplanning.nps.gov/projectHome.cfm?parkId=352&projectId=20437 Web site. The meetings are open to the public, and time is reserved for public comment. Oral comments are summarized for the record. If individuals wish to have their comments recorded verbatim, they must submit them in writing.

Dated: July 6, 2009.
Pedro Ramos,
Superintendent, Big Cypress National Preserve.

[FR Doc. E9-17098 Filed 7-16-09; 8:45 am]

BILLING CODE 4310-V6-P